DEPARTMENT OF THE INTERIOR

National Park Service

[NPS-WASO-NAGPRA-10824; 2200-1100-665]

Notice of Inventory Completion: Maxwell Museum of Anthropology, University of New Mexico, Albuquerque, NM

AGENCY: National Park Service, Interior.

ACTION: Notice.

SUMMARY: The Maxwell Museum of Anthropology has completed an inventory of human remains in consultation with the appropriate Indian tribe, and has determined that there is a cultural affiliation between the human remains and a present-day Indian tribe. Representatives of any Indian tribe that believes itself to be culturally affiliated with the human remains may contact the Maxwell Museum. Repatriation of the human remains to the Indian tribe stated below may occur if no additional claimants come forward.

DATES: Representatives of any Indian tribe that believes it has a cultural affiliation with the human remains should contact the Maxwell Museum of Anthropology at the address below by September 4, 2012.

ADDRESSES: Heather Edgar, Maxwell Museum of Anthropology, MSC01 1050, University of New Mexico, Albuquerque, NM 87131, telephone (505) 277-4415.

SUPPLEMENTARY INFORMATION: Notice is here given in accordance with the Native American Graves Protection and Repatriation Act (NAGPRA), 25 U.S.C. 3003, of the completion of an inventory of human remains in the possession of the Maxwell Museum of Anthropology, University of New Mexico. The human remains were removed from the Paa-ko Pueblo site in Bernalillo County, NM.

This notice is published as part of the National Park Service's administrative responsibilities under NAGPRA, 25 U.S.C. 3003(d)(3). The determinations in this notice are the sole responsibility of the museum, institution, or Federal agency that has control of the Native American cultural items. The National Park Service is not responsible for the determinations in this notice.

Consultation

A detailed assessment of the human remains was made by Maxwell Museum of Anthropology and San Diego Museum of Man professional staff in consultation with representatives of the Pueblo of Santa Ana, New Mexico.

History and Description of the Cultural Items

From 1935 to 1937, human remains representing, at minimum, three individuals were removed from the Paa-ko Pueblo site (LA 162) in Bernalillo County, NM. The Paa-ko skeletal collection was acquired through field excavations under the direction of Edgar L. Hewett along with the Museum of New Mexico and the University of New Mexico, working in cooperation with the Federal Works Progress Administration. These human remains are in the possession of the San Diego Museum of Man but are under the control of the Maxwell Museum of Anthropology, University of New Mexico. No known individuals were identified. No associated funerary objects are present.

In 1949, human remains representing, at minimum, two individuals were removed by the University of New Mexico (UNM) during an archaeological field school at the Paa-ko Pueblo site (LA 162) in Bernalillo County, NM. No known individuals were identified. No associated funerary objects are present.

The Paa-ko site is believed to have had two periods of occupation, from approximately A.D. 1300 to 1425 and then again from approximately A.D. 1525 to 1626 or later, the latter period coinciding with the arrival of the Spanish in this region. Documented evidence, material culture, and ethnographical accounts show that the inhabitants of the Paa-ko Pueblo site, during both periods of its occupation, were members of the early Tamayame people, ancestors to the current Native American people of the Pueblo of Santa Ana. Oral tradition of the modern Tamayame, or people of the Pueblo of Santa Ana, ethnographical accounts, and documented archaeological evidence reasonably suggest a line of continued shared group identity between the early archaic peoples of the Southwest, the later Anasazi (or Ancestral Puebloan or Hisatsinom), the Keres people and their branch of early Tamayame (people of Tamaya, a.k.a. Santa Ana) people, and the modern Native American inhabitants of the Pueblo of Santa Ana.

Determinations Made by the Maxwell Museum of Anthropology, University of New Mexico

Officials of the Maxwell Museum of Anthropology, University of New Mexico have determined that:

• Pursuant to 25 U.S.C. 3001(9), the human remains described in this notice represent the physical remains of five individuals of Native American ancestry.

• Pursuant to 25 U.S.C. 3001(2), there is a relationship of shared group identity that can be reasonably traced between the Native American human remains and the Pueblo of Santa Ana, New Mexico.

Additional Requestors and Disposition

Representatives of any Indian tribe that believes itself to be culturally affiliated with the human remains should contact Heather Edgar, Maxwell Museum of Anthropology, MSC01 1050, University of New Mexico, Albuquerque, NM 87131, telephone (505) 277-4415 before September 4, 2012. Repatriation of the human remains to the Pueblo of Santa Ana, New Mexico, may proceed after that date if no additional claimants come forward.

The Maxwell Museum of Anthropology, University of New Mexico, is responsible for notifying the Pueblo of Santa Ana, New Mexico that this notice has been published.

Dated: July 11, 2012.
David Tarler,
Acting Manager, National NAGPRA Program.

[FR Doc. 2012-18931 Filed 8-1-12; 8:45 am]

BILLING CODE 4312-50-P